COUNCIL ON ENVIRONMENTAL QUALITY

Emergencies and the National Environmental Policy Act Guidance

AGENCY: Council on Environmental Quality.

ACTION: Notice of availability.

SUMMARY: On January 21, 2026, the Council on Environmental Quality (CEQ) issued guidance in a memorandum to the heads of Federal departments and agencies (agencies) to assist agencies with their compliance with the National Environmental Policy Act (NEPA) during emergencies.

DATES: This guidance was issued on January 21, 2026.

FOR FURTHER INFORMATION CONTACT: Jomar Maldonado, Director for NEPA, 202-395-5750, Jomar.MaldonadoVazquez@ceq.eop.gov. The guidance is available for viewing online at www.nepa.gov.

SUPPLEMENTARY INFORMATION: On January 21, 2026, CEQ issued a memorandum entitled Guidance on Emergencies and the National Environmental Policy Act, which rescinds and replaces CEQ's Memorandum for Heads of Departments and Agencies, Emergencies and NEPA Guidance (89 FR 106448 (Dec. 30, 2024)).

This guidance addresses development of alternative arrangements during emergencies when an agency's action is likely to have significant effects and would require preparation of an environmental impact statement. This guidance also addresses compliance with NEPA when the action is unlikely to have significant effects and might require preparation of an environmental assessment or application of a categorical exclusion.

CEQ has developed this guidance based on its extensive experience assisting agencies in implementing NEPA during emergency situations and, more specifically, in helping agencies develop alternative arrangements for compliance with Section 102(2)(C) of NEPA (42 U.S.C. 4332(2)(C)) during these exigent situations. CEQ also has substantial experience, pursuant to Section 102(2)(B) of NEPA (42 U.S.C. 4332(2)(B)), in consulting with agencies on development of agency NEPA procedures, including development of emergency procedures. CEQ has approved and agencies have successfully applied numerous alternative arrangements to comply with Section 102(2)(C) of NEPA when authorizing, funding, or carrying out a wide range of proposed actions in emergency circumstances, including natural disasters, catastrophic wildfires, threats to species and their habitat, economic crises, infectious disease outbreaks, potential dam failures, insect infestations, and emergencies declared by the President. Alternative arrangements do not waive the requirement to comply with the NEPA statute. Rather, they establish an alternative means for an agency to meet its NEPA obligations.

The contents of the guidance do not have the force and effect of law and are not meant to create legal rights or obligations to any public party. The guidance does not establish new policy requirements. The guidance is intended only to provide clarity to the agencies regarding existing requirements under the law or agency policies.

The updated guidance is available at www.nepa.gov.

Katherine R. Scarlett,
Chairman.

[FR Doc. 2026-01555 Filed 1-26-26; 8:45 am]

BILLING CODE 3325-FC-P